ENVIRONMENTAL PROTECTION AGENCY

[EPA-HQ-OPPT-2017-0127; FRL-10006-34]

Inventory of Mercury Supply, Use, and Trade in the United States 2020 Report; Notice of Availability

AGENCY: Environmental Protection Agency (EPA).

ACTION: Notice.

SUMMARY: EPA is announcing the availability of the 2020 mercury inventory report, which summarizes information on U.S. mercury supply, use, and trade required to be reported by rule directly from mercury manufacturers, importers, and processors. EPA was directed by Congress in the Frank R. Lautenberg Chemical Safety for the 21st Century Act (Lautenberg Act), which amended the Toxic Substances Control Act (TSCA), to carry out and publish in the Federal Register not later than April 1, 2017 and every three years thereafter, an inventory of mercury supply, use, and trade in the United States. The Lautenberg Act defines “mercury” as “elemental mercury” or “a mercury compound.”

FOR FURTHER INFORMATION CONTACT: For technical information contact: Thomas Groeneveld, National Program Chemicals Division, Office of Pollution Prevention and Toxics, Environmental Protection Agency, 1200 Pennsylvania Ave. NW, Washington, DC 20460-0001; telephone number: (202) 566-1188; email address: groeneveld.thomas@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

This action applies to the public in general and may be of interest to a wide range of stakeholders including members of the public interested in elemental mercury or mercury compounds generally. Other topics of interest include the supply, use, or trade of elemental mercury or mercury compounds, including mercury-added products and manufacturing processes. As such, the Agency has not attempted to describe all the specific entities that may be interested in this action.

II. What is the agency's authority for this action?

TSCA section 8(b)(10), 15 U.S.C. 2507(b)(10), as amended by the Lautenberg Act of 2016, directs EPA to carry out and publish in the Federal Register not later than April 1, 2017, and every three years thereafter, an inventory of mercury supply, use, and trade in the United States. TSCA section 8(b)(10)(A) defines “mercury” as “elemental mercury” or “a mercury compound” (15 U.S.C. 2507(b)(10)(A)). In carrying out the mercury inventory, EPA is to “identify any manufacturing processes or products that intentionally add mercury” (15 U.S.C. 2607(b)(10)(C)(i)) and “recommend actions, including proposed revisions of Federal law or regulations, to achieve further reductions in mercury use” (15 U.S.C. 2607(b)(10)(C)(ii)).

III. What action is the agency taking?

EPA is announcing the availability of a report entitled “Inventory of Mercury Supply, Use, and Trade in the United States: 2020 Report,” which provides an inventory of mercury supply, use, and trade in the United States. This is the first report in which the supply, use, and trade of mercury is presented based on data collected by EPA under the final rule Mercury; Reporting Requirements for the TSCA Mercury Inventory, codified in 40 CFR part 713 (83 FR 30054, June 27, 2018)(FRL-9979-74). Persons subject to the reporting requirements in 40 CFR part 713 submitted information directly to EPA via the Mercury Electronic Reporting (MER) application, which is accessed through the Agency's Central Data Exchange (CDX). The deadline for reporting mercury information to EPA was July 1, 2019 for reporting activities that occurred in the calendar year 2018, and the inventory collection, reporting, and publication cycle will continue every three years thereafter.

IV. How can I access this report?

The 2020 inventory report may be found in the docket for this action and on the EPA Mercury website (https://www.epa.gov/mercury).

The docket for this action, identified by docket identification (ID) number EPA-HQ-OPPT-2017-0127, is available online at http://www.regulations.gov or in person at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

(Authority: 15 U.S.C. 2607(b)(10)(B))

Dated: March 26, 2020.
Alexandra Dapolito Dunn,
Assistant Administrator, Office of Chemical Safety and Pollution Prevention.

[FR Doc. 2020-06877 Filed 4-1-20; 8:45 am]

BILLING CODE 6560-50-P